DEPARTMENT OF COMMERCE

International Trade Administration

[A-428-854, A-533-932, A-517-807]

Hexamethylenetetramine From the Kingdom of Saudi Arabia (Saudi Arabia): Amended Final Antidumping Duty Determination; Hexamethylenetetramine From Germany, India, and Saudi Arabia: Antidumping Duty Orders

AGENCY: Enforcement and Compliance, International Trade Administration, Department of Commerce.

SUMMARY: Based on affirmative final determinations by the U.S. Department of Commerce (Commerce) and the U.S. International Trade Commission (ITC), Commerce is issuing the antidumping duty (AD) orders on hexamethylenetetramine (hexamine) from Germany, India, and Saudi Arabia. Further, the ITC determined that critical circumstances do not exist with respect to hexamine from Germany and India. In addition, Commerce is amending its final determination of sales at less than fair value (LTFV) with respect to Hexamine from Saudi Arabia to correct ministerial errors.

DATES: Applicable January 7, 2026.

FOR FURTHER INFORMATION CONTACT: Maria Papakostas (Germany) at (202) 482-0086; Dylan Hill (India) at (202) 482-1197; or Andrew Hart (Saudi Arabia) at (202) 482-1058, AD/CVD Operations, Offices II, IV, and IX, Enforcement and Compliance, International Trade Administration, U.S. Department of Commerce, 1401 Constitution Avenue NW, Washington, DC 20230.

SUPPLEMENTARY INFORMATION:

Background

On September 23, 2025, Commerce published its affirmative final determinations in the LTFV investigations of hexamine from Germany, India, and Saudi Arabia, in accordance with sections 735(d) and 777(i) of the Tariff Act of 1930, as amended (the Act).¹ In the LTFV investigation of Hexamine from Saudi Arabia, interested parties timely alleged that Commerce made certain ministerial errors. See “Amendment to the Final Determination of Sales at LTFV for Saudi Arabia” section below for further discussion.

¹ See Hexamethylenetetramine from Germany: Final Affirmative Determination of Sales at Less-Than-Fair-Value and Final Affirmative Determination of Critical Circumstances, 90 FR 45728 (September 23, 2025); see also Hexamethylenetetramine from India: Final Affirmative Determination of Sales at Less Than Fair Value and Final Affirmative Determination of Critical Circumstances, in part, 90 FR 45725 (September 23, 2025); and Hexamethylenetetramine from the Kingdom of Saudi Arabia: Final Affirmative Determination of Sales at Less Than Fair Value and Final Negative Determination of Critical Circumstances, 90 FR 45723 (September 23, 2025) (Saudi Arabia Final Determination).

On December 22, 2025, pursuant to section 735(d) of the Act, the ITC notified Commerce of its final affirmative determinations that an industry in the United States is materially injured within the meaning of section 735(b)(1)(A)(i) of the Act by reason of dumped imports of hexamine from Germany, India, and Saudi Arabia.² On December 30, 2025, the ITC published its final determinations in the Federal Register.³ Further, the ITC determined that critical circumstances are not likely to undermine seriously the remedial effect of the antidumping duty orders on hexamine from Germany and India.⁴

² See ITC's Letter, “Notification of ITC Final Determination,” dated December 22, 2025 (ITC Notification Letter).

³ See Hexamine (Hexamethylenetetramine) from Germany, India, and Saudi Arabia; Determinations, 90 FR 61168 (December 30, 2025).

⁴ Id.

Scope of the Orders

The products covered by these orders are hexamine from Germany, India, and Saudi Arabia. For a complete description of the scope of the orders, see the appendix to this notice.

Amendment to the Final Determination of Sales at LTFV for Saudi Arabia

We determine that we made a ministerial error in the final determination of sales at LTFV for Saudi Arabia. Pursuant to 19 CFR 351.224(e), and as explained further in the Saudi Arabia Ministerial Error Memorandum,⁵ Commerce is amending the Saudi Arabia Final Determination to reflect the correction of a ministerial error.⁶ Correction of this error changes the final AD adjusted cash deposit rate for Methanol Chemicals Company, as well as the cash deposit rate for all other producers and exporters not individually investigated. The revised rates are listed in the “Estimated Weighted-Average Dumping Margins” section, below.

⁵ See Memorandum, “Analysis of Ministerial Error Allegations,” dated December 29, 2025.

⁶ Id.

AD Orders

Based on the above-referenced affirmative final determinations, in accordance with sections 735(c)(2) of the Act, Commerce is issuing these AD orders. Because the ITC determined that an industry in the United States is materially injured by reason of imports of hexamine from Germany, India, and Saudi Arabia, unliquidated entries of such merchandise from the countries, entered or withdrawn from warehouse for consumption, are subject to the assessment of antidumping duties.

Therefore, in accordance with section 736(a)(1) of the Act, Commerce will direct U.S. Customs and Border Protection (CBP) to assess, upon further instruction by Commerce, antidumping duties equal to the amount by which the normal value of the merchandise exceeds the export price (or constructed export price) of the merchandise on all relevant entries of hexamine from Germany, India, and Saudi Arabia. Antidumping duties will be assessed on unliquidated entries of hexamine entered, or withdrawn from warehouse, for consumption on or after May 6, 2025, the date of publication of the LFTV Preliminary Determinations,⁷ but will not include entries occurring after the expiration of the provisional measures period and before publication of the ITC's final injury determination, as further described below.

⁷ See Hexamethylenetetramine from Germany: Preliminary Affirmative Determination of Sales at Less-Than-Fair-Value, Postponement of Final Determination, and Extension of Provisional Measures, 90 FR 19186 (May 6, 2025); see also Hexamethylenetetramine From India: Preliminary Affirmative Determination of Sales at Less Than Fair Value, Postponement of Final Determination and Extension of Provisional Measures, 90 FR 19178 (May 6, 2025); Hexamethylenetetramine from the Kingdom of Saudi Arabia: Preliminary Affirmative Determination of Sales at Less Than Fair Value, Postponement of Final Determination, and Extension of Provisional Measures, 90 FR 19180 (May 6, 2025 (collectively, Preliminary Determinations).

Suspension of Liquidation and Cash Deposits

In accordance with section 736 of the Act, Commerce intends to instruct CBP to reinstitute the suspension of liquidation and continue the suspension of liquidation, as applicable, on all relevant entries of hexamine from Germany, India, and Saudi Arabia, effective on the date of publication of the ITC's final affirmative injury determination in the Federal Register.

Commerce also intends to instruct CBP to require cash deposits equal to the estimated weighted-average dumping margins indicated in the tables below, adjusted by the relevant subsidy offsets. Accordingly, effective on the date of publication in the Federal Register of the notice of the ITC's final affirmative injury determination, CBP will require, at the same time as importers would normally deposit estimated customs duties on subject merchandise, a cash deposit equal to the rates listed in the tables below. The all-others rate applies to all producers or exporters not specifically listed, as appropriate.

Critical Circumstances

With respect to the ITC's negative critical circumstances determination on imports of hexamine from Germany and India, we will instruct CBP to lift the suspension of liquidation and to refund all cash deposits for estimated antidumping duties with respect to entries of the subject merchandise entered, or withdrawn from warehouse, for consumption on or after February 5, 2025, i.e., 90 days prior to the date of the publication of the Preliminary Determinations, but before May 6, 2025, the date of publication of the Preliminary Determinations.

Estimated Weighted-Average Dumping Margins

The estimated weighted-average dumping margins are as follows:

⁸ Adjusted for export subsidies of 1.99 percent (comprised of 1.19 percent for the duty drawback program, and 0.80 percent for the remissions of duties and taxes on export products program) for Kanoria and All Others. See Hexamethylenetetramine from India: Final Affirmative Countervailing Duty Determination and Final Affirmative Critical Circumstances Determination, In Part, 90 FR 45720 (September 23, 2025) and accompanying Issues and Decision Memorandum, dated September 18, 2025.

Germany
Exporter/producer | Weighted-average dumping margin (percent)
Prefere Paraform GmbH & Co Kg | 59.29
Fiberpipe GFK Vertriebsgesellschaft | * 102.14
All Others | 59.29
* Rate based on facts available with adverse inferences.

India
Exporter/producer | Weighted-average dumping margin (percent) | Cash deposit rate (adjusted for subsidy offset(s)) (percent)
Kanoria Chemicals and Industries Limited | 5.11 | ⁸ 3.12
Horizon Chemicals | * 105.76 | 103.77
Micro Labs Limited | * 105.76 | 103.77
Shreenathji Rasayan Private Limited | * 105.76 | 103.77
Rajsha Chemicals Pvt. Ltd | * 105.76 | 103.77
All Others | 5.11 | 3.12
* Rate based on facts available with adverse inferences.

Saudi Arabia
Exporter/producer | Weighted-average dumping margin (percent)
Methanol Chemicals Company | * 8.10
All Others | 8.10
* Rate based on facts available with adverse inferences.

Provisional Measures

Section 773(d) of the Act states that suspension of liquidation pursuant to an affirmative preliminary determination may not remain in effect for more than four months, except where exporters representing a significant proportion of exports of the subject merchandise request that Commerce extend the four-month period to no more than six months. At the request of exporters that account for a significant proportion of hexamine from Germany, Saudi Arabia, and India, Commerce extended the four-month period to six months.⁹

⁹ See Preliminary Determinations.

In the underlying investigations, Commerce published the Preliminary Determinations on May 6, 2025. Therefore, the six-month period beginning on the date of the publication of the Preliminary Determinations ended on November 1, 2025. Therefore, in accordance with section 733(d) of the Act and our practice, Commerce will instruct CBP to terminate the suspension of liquidation and to liquidate, without regard to antidumping duties, unliquidated entries of hexamine from Germany, India, and Saudi Arabia entered, or withdrawn from warehouse, for consumption on or after November 2, 2025, the day on which the provisional AD measures expired, until and through the day preceding the date of publication of the ITC's final injury determinations in the Federal Register. Suspension of liquidation and the collection of cash deposits will resume on the date of publication of the ITC's final determinations in the Federal Register.

Establishment of the Annual Inquiry Service Lists

On September 20, 2021, Commerce published the Final Rule in the Federal Register.¹⁰ On September 27, 2021, Commerce also published the Procedural Guidance in the Federal Register.¹¹ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.

¹⁰ See Regulations to Improve Administration and Enforcement of Antidumping and Countervailing Duty Laws, 86 FR 52300 (September 20, 2021) (Final Rule).

¹¹ See Scope Ruling Application; Annual Inquiry Service List; and Informational Sessions, 86 FR 53205 (September 27, 2021) (Procedural Guidance).

In accordance with the Procedural Guidance, for orders published in the Federal Register after November 21, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL—Annual Inquiry Service List.” ¹²

¹² This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL—January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance,¹³ the new annual inquiry service list will be in place until the following year, when the Opportunity Notice for the anniversary month of the order is published.

¹³ See Procedural Guidance, 86 FR at 53206.

Commerce may update an annual inquiry service list at any time as needed based on interested parties' amendments to their entries of appearance to remove or otherwise modify their list of members and representatives, or to update contact information. Any changes or announcements pertaining to these procedures will be posted to the ACCESS website.

Special Instructions for the Petitioner and Foreign Governments

In the Final Rule, Commerce stated that, “after an initial request and placement on the annual inquiry service list, both petitioners and foreign governments will automatically be placed on the annual inquiry service list in the years that follow.” ¹⁴ Accordingly, as stated above, the petitioner and foreign governments should submit their initial entries of appearance after publication of this notice in order to appear in the first annual inquiry service lists for these orders. Pursuant to 19 CFR 351.225(n)(3), the petitioner and foreign governments will not need to resubmit their entries of appearance each year to continue to be included on the annual inquiry service list. However, the petitioner and foreign governments are responsible for making amendments to their entries of appearance during the annual update to the annual inquiry service list in accordance with the procedures described above.

¹⁴ See Final Rule, 86 FR at 52335.

Notification to Interested Parties

This notice constitutes the AD orders with respect to hexamine from Germany, India, and Saudi Arabia, pursuant to section 736(a) of the Act. Interested parties can find a list of AD and countervailing duty orders currently in effect at https://enforcement.trade.gov/stats/iastats1.html.

The amended Saudi Arabia final determination and these AD orders are published in accordance with sections 735(e) and 736(a) of the Act, 19 CFR 351.224(e), and 19 CFR 351.211(b).

Dated: January 2, 2026.
Christopher Abbott,
Deputy Assistant Secretary for Policy and Negotiations, performing the non-exclusive functions and duties of the Assistant Secretary for Enforcement and Compliance.

Appendix

Scope of the Orders

The scope covered by these orders include hexamine in granular form, with a particle size of 5 millimeters or less, whether stabilized or unstabilized, whether or not blended, mixed, pulverized, or grounded with other products, containing 50 percent or more hexamine by weight.

Hexamine is the common name for hexamethylene tetramine (Chemical Abstract Service #100-97-0), and is also referred to as 1,3,5,7-tetraazaadamantanemethenamine; HMT; HMTA; 1,3,5,7-tetraazatricyclo {3.3.1.13,7} decane; 1,3,5,7-tetraaza adamantane; hexamethylenamine. Hexamine has the chemical formula C6H12N4.

Granular hexamine that has been blended with other product(s) is included in this scope when the resulting mix contains 50 percent or more of hexamine by weight, regardless of whether it is blended with inert additives, co-reactants, or any additives that undergo self-condensation.

Subject merchandise includes merchandise matching the above description that has been processed in a third country, including by commingling, diluting, adding or removing additives, or performing any other processing that would not otherwise remove the merchandise from the scope of these orders if performed in the subject country.

Merchandise covered by the scope of these orders can be classified in the Harmonized Tariff Schedule (HTSUS) of the United States under the subheading 2933.69.5000. The HTSUS subheading and Chemical Abstracts Service registry number are provided for convenience and customs purposes only; however, the written description of the scope is dispositive.

[FR Doc. 2026-00092 Filed 1-6-26; 8:45 am]

BILLING CODE 3510-DS-P